DEPARTMENT OF STATE

[Public Notice: 6285]

60-Day Notice of Proposed Information Collection: DS-234, Application for Special Immigrant Visa and Alien Registration, OMB Number 1405-0015

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Application for Special Immigrant Visa.

• OMB Control Number: 1405-0015.

• Type of Request: Revision of a Currently Approved Collection.

• Originating Office: Bureau of Consular Affairs, Department of State (CA/VO).

• Form Number: DS-234.

• Respondents: Iraqi immigrant visa applicants.

• Estimated Number of Respondents: 12,000 per year.

• Estimated Number of Responses: 12,000 per year.

• Average Hours Per Response: 20 minutes.

• Total Estimated Burden: 4,000 hours per year.

• Frequency: Once per respondent.

• Obligation to Respond: Required to Obtain or Retain U.S. resettlement benefits

DATES: The Department will accept comments from the public up to 60 days from July 9, 2008.

ADDRESSES: You may submit comments by the following method:

• E-mail: FiresteinJY@state.gov (Subject line must read DS-234 SIV Form).

• Mail (paper, disk, or CD-ROM submissions): PRM/Admissions, 2401 E Street, NW., Suite L505, SA-1, Washington, DC 20522

You must include the DS form number (DS-234), information collection title, and OMB control number in any correspondence.

FOR FURTHER INFORMATION CONTACT: Direct requests for additional information regarding the collection listed in this notice, including requests for copies of the proposed information collection and supporting documents, to Jessica Firestein of the Office of Admissions, U.S. Department of State, 2401 E. Street, NW. L-505, Washington, DC 20522, who may be reached at firesteinjy@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: Form DS-234 is being added to this collection to elicit information used to determine the eligibility of Iraqis and Afghan nationals applying for special immigrant visas.

Methodology: The SIV Bio-data information form (DS-234) is submitted electronically by the applicant to the National Visa Center, which will forward the forms to the Refugee Processing Center of Bureau of Population, Refugees and Migration.

Dated: June 28, 2008.
Lawrence Bartlett,
Deputy Director, Office of Admissions, Bureau of Population, Refugees and Migration, Department of State.

[FR Doc. E8-15591 Filed 7-8-08; 8:45 am]

BILLING CODE 4710-33-P